DEPARTMENT OF DEFENSE

Office of the Secretary

[Transmittal No. 20-40]

Arms Sales Notification

Correction

In notice document 2020-18479, beginning on page 52104, in the issue of Monday, August 24, 2020 the incorrect graphic was inadvertently published in error. The correct graphic for Transmittal No. 20-40 is corrected to appear as set forth below.

BILLING CODE 1301-00-D

[FR Doc. C1-2020-18479 Filed 8-27-20; 8:45 am]

BILLING CODE 1301-00-C